DEPARTMENT OF DEFENSE

GENERAL SERVICES ADMINISTRATION

NATIONAL AERONAUTICS AND SPACE ADMINISTRATION

48 CFR Chapter 1

[Docket No. FAR-2022-0051, Sequence No. 4]

Federal Acquisition Regulation; Federal Acquisition Circular 2022-07; Small Entity Compliance Guide

AGENCY: Department of Defense (DoD), General Services Administration (GSA), and National Aeronautics and Space Administration (NASA).

ACTION: Small Entity Compliance Guide (SECG).

SUMMARY: This document is issued under the joint authority of DoD, GSA, and NASA. This Small Entity Compliance Guide has been prepared in accordance with section 212 of the Small Business Regulatory Enforcement Fairness Act of 1996. It consists of a summary of the rule appearing in Federal Acquisition Circular (FAC) 2022-07, which amends the Federal Acquisition Regulation (FAR). Interested parties may obtain further information regarding this rule by referring to FAC 2022-07, which precedes this document.

DATES: August 10, 2022.

ADDRESSES: The FAC, including the SECG, is available at https://www.regulations.gov.

FOR FURTHER INFORMATION CONTACT: For information pertaining to status or publication schedules, contact the Regulatory Secretariat Division at 202-501-4755 or GSARegSec@gsa.gov. Please cite FAC 2022-07, Technical Amendments.

Rules Listed in FAC 2022-07
Subject
Technical Amendments.

SUPPLEMENTARY INFORMATION: A summary for the FAR rule follows. For the actual technical amendments made by this rule, refer to the specific subject set forth in the document preceding this SECG. FAC 2022-07 amends the FAR as follows:

Technical Amendments

Editorial changes are made at FAR 4.402, 13.003, 17.502-1, 23.704, 51.102, and 52.217-3.

William F. Clark,
Director, Office of Government-wide Acquisition Policy, Office of Acquisition Policy, Office of Government-wide Policy.

[FR Doc. 2022-17071 Filed 8-9-22; 8:45 am]

BILLING CODE 6820-EP-P